DEPARTMENT OF HEALTH AND HUMAN SERVICES

Administration for Children and Families

Announcing the Award of a Single-Source Program Expansion Supplement Grant to the Johns Hopkins University, Bloomberg School of Public Health in Baltimore, MD, To Support the Development of a Human Services National Interoperable Architecture (HSNIA)

AGENCY: Office of Information Services, OA, ACF, HHS.

ACTION: Notice of the award of a single-source program expansion supplement grant.

CFDA Number: 93.647.

Statutory Authority: This award will be made pursuant to section 3021 of the Patient Protection and Affordable Care Act (ACA) [Pub. L. 111-148] and the Improper Payments Elimination and Recovery Act of 2010 [Pub. L. 111-204].

SUMMARY: The Administration for Children and Families (ACF), Office of Administration (OA), Office of Information Services (OIS) announces the award of $1,000,000 as a single-source expansion supplement grant to extend an award made to the Johns Hopkins University (JHU), Greenberg School of Public Health in Baltimore, MD. The grant will allow JHU, and its partner, JHU Applied Physics Laboratory, to continue the development of a Human Services National Interoperable Architecture (HSNIA). Under the supplement award, JHU and its partners will develop Phase III of an architectural framework that will be used as a model to facilitate State and local agencies in information exchanges among eligibility and verification services that are developed by the HHS/Centers for Medicare and Medicaid Services (CMS) under the requirements of the Patient Protection and Affordable Care Act (ACA).

To address issues related to implementation of the ACA and the Improper Payments Elimination and Recovery Act of 2010, the Administration has directed Federal Agencies to begin to design and execute plans related to the legislation. JHU and its partners will create the development of a conceptual information technology architecture with ACF/Office of Information Services. The project will produce a solution that supports information exchanges and interoperability that will lead to reductions in improper payments as a preventative step in the program integrity process.

DATES: September 30, 2011 through September 29, 2012.

FOR FURTHER INFORMATION CONTACT: David Jenkins, Federal Project Officer, Office of Administration, Office of Information Services, Administration for Children and Families, 901 D Street, SW., 3rd Floor West, Washington, DC 20047; Email: David.Jenkins@acf.hhs.gov; Telephone: (202) 690-5802.

Dated: October 24, 2011.
Michael Curtis,
Director, Office of Information Services.

[FR Doc. 2011-28143 Filed 10-28-11; 8:45 am]

BILLING CODE 4184-01-P